DEPARTMENT OF COMMERCE

National Oceanic and Atmospheric Administration

Science Advisory Board

AGENCY: Office of Oceanic and Atmospheric Research (OAR), National Oceanic and Atmospheric Administration (NOAA), Department of Commerce (DOC).

ACTION: Notice of public meeting.

SUMMARY: This notice sets forth the schedule and proposed agenda of a forthcoming meeting of the NOAA Science Advisory Board. The members will discuss and provide advice on issues outlined in the section on Matters to be Considered.

Time and Date: The meeting is scheduled for: Tuesday, October 9, 2012, from 1:00-3:00 p.m. Eastern Daylight Time.

ADDRESSES: Conference call. Public access is available at: NOAA, SSMC 3, Room 12836, 1315 East-West Highway, Silver Spring, MD. Members of the public will not be able to dial in to this meeting.

Status: The meeting will be open to public participation with a 5-minute public comment period from 2:50-2:55 p.m. The SAB expects that public statements presented at its meetings will not be repetitive of previously submitted verbal or written statements. In general, each individual or group making a verbal presentation will be limited to a total time of one minute. Written comments should be received in the SAB Executive Director's Office by October 4, 2012 to provide sufficient time for SAB review. Written comments received by the SAB Executive Director after October 4, 2012, will be distributed to the SAB, but may not be reviewed prior to the meeting date.

SUPPLEMENTARY INFORMATION: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Matters to be Considered: The meeting will include the following topics: (1) Presentation of the final report from the review of the Ocean Exploration Program by the Ocean Exploration Advisory Working Group; (2) Review of new members, a new chair and renewal of membership terms for the Data Archive and Access Requirements Working Group; (3) Review of renewal of membership terms for the Ecosystem Sciences and Management Working Group;(4) Review of new members, a new chair and renewal of membership terms for the Climate Working Group; and (5) Update from the Research and Development Portfolio Review Task Force and discussion of proposed new date for final report. For the latest agenda, please visit the SAB Web site at http://www.sab.noaa.gov.

FOR FURTHER INFORMATION CONTACT: Dr. Cynthia Decker, Executive Director, Science Advisory Board, NOAA, Rm. 11230, 1315 East-West Highway, Silver Spring, Maryland 20910. (Phone: 301-734-1156, Fax: 301-713-1459, Email: Cynthia.Decker@noaa.gov.

Dated: September 14, 2012.
Andy Baldus,
Chief Financial Officer/Chief Administrative Officer, Office of Oceanic and Atmospheric Research, National Oceanic and Atmospheric Administration.

[FR Doc. 2012-23160 Filed 9-19-12; 8:45 am]

BILLING CODE 3510-KD-P